DEPARTMENT OF THE INTERIOR

Bureau of Land Management

[CA-190-98-1610-AF-24-1A]

Notice of Emergency Closure Policy and Procedures for Public Lands Managed by the Hollister Field Office, California

AGENCY: Bureau of Land Management, Department of the Interior.

ACTION: Notice of Proposed Implementation Policy for Emergency Closures on an As Needed Basis for Public Lands Administered by the Hollister Field Office, California.

SUMMARY: In order to facilitate emergency operations and protect resources in the event of severe seasonal storms and/or natural disasters, the Hollister Field Officer is hereby serving notice that it will be adopting an emergency closure policy to be enacted on an as-needed basis when basic criteria are met. The closure will be invoked or lifted in public media such as Information Hot Lines, Press Releases, and on-the-ground postings. The lands covered by this emergency closure policy include all public lands administered by the Hollister Field Office. Public notices in the media and on recording information will specify which public lands will be temporarily closed, and will reflect local conditions. One of the following criteria shall be met: (1) State, County or Federal road access to the area is closed or restricted to residents and emergency personnel; (2) BLM or emergency response personnel cannot access and/or perform their duties in a given location; (3) Roads or trails are saturated with moisture to the point where vehicle traffic causes ruts or bogs leading to increased erosion. See attached moisture criteria supplement sheet.

The above policy is intended to allow the BLM flexibility in implementing emergency closure while also utilizing the most time-effective method of notifying the public. This will also facilitate management to minimize threats to public health and safety, as well as the potential for resource damage. Any time the closure policy is enacted, the following persons will be exempt:

(1) Federal, State, or Local Law Enforcement Officers, while engaged in the execution of their official duties.

(2) BLM personnel or their representatives while engaged in the execution of their official duties.

(3) Any member of an organized rescue, fire-fighting force, Emergency Medical Services organization while in the performance and execution of an official duty.

(4) Any member of a federal, state, or local public works department while in the performance of an official duty.

(5) Any person in receipt of a written authorization of exemption obtained from the Hollister Field Office.

(6) Local landowners, persons with valid existing rights or lease operations, or representatives thereof, who have a responsibility or need to access their property or to continue their operations on public land.

EFFECTIVE DATE: This policy will become effective March 6, 2000, and shall remain in effect until rescinded or modified by the Authorized Officer.

SUPPLEMENTARY INFORMATION: These closures and restrictions are under the authority of 43 CFR 8364.1 and 43 CFR 8341.2. Persons violating this closure shall be subject to the penalties provided in 43 CFR 8360.0-7 and 8340.0-7, including a fine not to exceed $100,000 and/or imprisonment not to exceed 12 months. Parties exempt from the closure action shall be responsible for mitigating any resource damage caused by entering the closed area. Waivers can be granted for emergency circumstances, however in the event an emergency is caused by a negligent action, the responsible party would then be responsible for the mitigation.

FOR FURTHER INFORMATION CONTACT: Area Manager, Hollister Field Office, 20 Hamilton Court, Hollister, CA 95024, (831) 630-5000.

Dated: January 19, 2000.
Robert E. Beehler,
Hollister Field Manager.

Supplemental Soil Moisture Closure Criteria

Clear Creek Management Area

No action would be taken until the annual total precipitation exceeds 8 inches, the rain year would be the same as that used by the national weather service and rainfall data would be from the California Water Resources Board, nearest available rain gage. Once 8 inches of precipitation has been exceeded, the following would apply. Additional rainfall exceeding ½ inch within a 24 hour period, or 1 inch within a 72 hour period would result in a 3 day closure. Once the area has been closed a field inspection will be completed prior to reopening, and daily thereafter to determine suitability of road conditions. When recorded field observations show that road and trail surfaces have not dried sufficiently to allow traffic without damage to the surface, the area shall remain closed. Closure criteria may be amended or refined as results of area closures are evaluated. Specific criteria may be developed for other areas as needed.

[FR Doc. 00-2513 Filed 2-3-00; 8:45 am]

BILLING CODE 4310-40-U